DEPARTMENT OF THE INTERIOR

National Park Service

[NPS-WASO-NAGPRA-11153; 2200-1100-665]

Notice of Inventory Completion: U.S. Department of the Interior, National Park Service, Walnut Canyon National Monument, Flagstaff, AZ

AGENCY: National Park Service, Interior.

ACTION: Notice.

SUMMARY: The U.S. Department of the Interior, National Park Service, Walnut Canyon National Monument has completed an inventory of human remains and associated funerary objects, in consultation with the appropriate Indian tribes, and has determined that there is a cultural affiliation between the human remains and associated funerary objects and present-day Indian tribes. Representatives of any Indian tribe that believes itself to be culturally affiliated with the human remains and associated funerary objects may contact Walnut Canyon National Monument. Repatriation of the human remains and associated funerary objects to the Indian tribes stated below may occur if no additional claimants come forward.

DATES: Representatives of any Indian tribe that believes it has a cultural affiliation with the human remains and associated funerary objects should contact Walnut Canyon National Monument at the address below by October 29, 2012.

ADDRESSES: Diane Chung, Superintendent, Walnut Canyon National Monument, 6400 N. Hwy 89, Flagstaff, AZ 86004, telephone (928) 526-1157 ext. 227.

SUPPLEMENTARY INFORMATION: Notice is here given in accordance with the Native American Graves Protection and Repatriation Act (NAGPRA), 25 U.S.C. 3003, of the completion of an inventory of human remains and associated funerary objects in the possession of Walnut Canyon National Monument. The human remains and associated funerary objects were removed from a site within the boundaries of Walnut Canyon National Monument in Coconino County, AZ.

This notice is published as part of the National Park Service's administrative responsibilities under NAGPRA, 25 U.S.C. 3003(d)(3). The determinations in this notice are the sole responsibility of the Superintendent, Walnut Canyon National Monument.

Consultation

A detailed assessment of the human remains was made by Walnut Canyon National Monument professional staff in consultation with representatives of the Fort McDowell Yavapai Nation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Kewa Pueblo, New Mexico (formerly the Pueblo of Santo Domingo); Mescalero Apache Tribe of the Mescalero Reservation, New Mexico; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; Yavapai-Prescott Tribe of the Yavapai Reservation, Arizona; Ysleta del Sur Pueblo of Texas; and Zuni Tribe of the Zuni Reservation, New Mexico. The Pueblo of San Felipe, New Mexico, was contacted, but did not have an internal process to address the issue of repatriation. Hereafter, all tribes listed above are referred to as “The Tribes.”

History and Description of the Remains

Between 1966 and 1968, human remains representing a minimum of 34 individuals were removed from the Anniversary Site, within Walnut Canyon National Monument in Coconino County, AZ, during a legally authorized National Park Service and Northern Arizona University excavation. No known individuals were identified. The 443 associated funerary objects are 351 beads, 10 bowls, 4 jars, 6 ladles, 7 un-worked animal bones, 4 bags of un-worked animal bones, 6 bone artifacts, 5 rubbing/polishing stones, 4 flake tools, 4 bags of ceramic sherds, 2 ceramic sherds, 3 projectile points, 3 pendants, 2 ground stone artifacts, 2 nodules, 2 scrapers, 2 bifaces, 2 un-worked stones, 2 boxes of soil, 6 boxes of wood fragments, 1 anvil, 1 ceramic artifact, 1 worked ceramic sherd, 2 manos, 1 metate, 1 arrow shaft straightener, 1 awl, 1 figurine, 1 bag of charcoal, 1 drill, 1 chopper, 1 painted wood staff, 1 unworked shell, 1 worked stone, and 1 box of pigment.

All of the human remains have been analyzed by physical anthropologists who have determined them to be Native American. All burials were excavated from the midden immediately adjacent to and contemporaneous with the site. Individuals were found lying in extended, supine positions, with the exception of one individual who was found loosely flexed at the knees. On the basis of architecture and ceramics, the site is dated to A.D. 1100-1200.

Evidence demonstrating continuity between the people of Walnut Canyon in the 1100s and the Hopi Tribe of Arizona and the Zuni Tribe of the Zuni Reservation, New Mexico, includes similarities in material culture, architecture, mortuary practices, settlement patterns, and agricultural methods. Both Hopi and Zuni oral histories indicate connections to the people of the Anniversary Site specifically and of Walnut Canyon generally. In addition, the Hopi trace four clans and the Zuni trace several medicine societies to prehistoric Walnut Canyon.

Determinations Made by Walnut Canyon National Monument

Officials of Walnut Canyon National Monument have determined that:

• Pursuant to 25 U.S.C. 3001(9), the human remains described in this notice represent the physical remains of 34 individuals of Native American ancestry.

• Pursuant to 25 U.S.C. 3001(3)(A), the 443 objects described above are reasonably believed to have been placed with or near individual human remains at the time of death or later as part of the death rite or ceremony.

• Pursuant to 25 U.S.C. 3001(2), there is a relationship of shared group identity that can be reasonably traced between the Native American human remains and associated funerary objects and the Hopi Tribe of Arizona and the Zuni Tribe of the Zuni Reservation, New Mexico.

Additional Requestors and Disposition

Representatives of any Indian tribe that believes itself to be culturally affiliated with the human remains and associated funerary objects should contact Diane Chung, Superintendent, Walnut Canyon National Monument, 6400 N. Hwy 89, Flagstaff, AZ 86004; telephone (928) 526-1157 ext. 227, before October 29, 2012. Repatriation of the human remains and associated funerary objects to the Hopi Tribe of Arizona and the Zuni Tribe of the Zuni Reservation, New Mexico, may proceed after that date if no additional claimants come forward.

Walnut Canyon National Monument is responsible for notifying The Tribes that this notice has been published.

Dated: August 24, 2012.
Melanie O'Brien,
Acting Manager, National NAGPRA Program.

[FR Doc. 2012-23930 Filed 9-27-12; 8:45 am]

BILLING CODE 4312-50-P